DEPARTMENT OF ENERGY

Federal Energy Regulatory Commission

[Docket No. RP99-176-020]

Natural Gas Pipeline Company of America; Notice of Proposed Change in FERC Gas Tariff

June 1, 2000.

Take notice that on May 26, 2000, Natural Gas Pipeline Company of America (Natural) tendered for filing First Revised Sheet No. 26J to be a part of its FERC Gas Tariff, Sixth Revised Volume No. 1, to be effective April 25, 2000.

On April 25, 2000, Natural filed Original sheet No. 26J at Docket No. RP99-176-018 to implement a negotiated rate formula transaction under Rate Schedule ITS with the Peoples Gas Light and Coke Company. Original Sheet No. 26J was accepted by letter order dated May 19, 2000, to become effective April 25, 2000.

Subsequently to Natural's initial filing on April 25, 2000, it was discovered that the executed negotiated rate agreement inadvertently omitted all storage and pooling points in Natural's Iowa Illinois Gulf Receipt Zone from among the qualified delivery points. The negotiated rate agreement was amended to remedy this omission. Therefore, Natural is now submitting First Revised Sheet No. 26J reflecting the revised footnote six (6) to supersede Original Sheet No. 26J previously submitted on April 25, 2000.

Natural requests waiver of the Commission's Regulations, including the 30-day notice requirement of Section 154.207, to the extent necessary to permit First Revised Sheet No. 26J to become effective April 25, 2000, which coincides with the effective date of the amendment to the underlying negotiated rate agreement.

Natural states that copies of the filing are being mailed to Natural's customers, interested state commissions and all parties set out on the Commission's official service list in Docket No. RP99-176.

Any person desiring to be heard or to protest said filing should file a motion to intervene or a protest with the Federal Energy Regulatory Commission, 888 First Street, NE., Washington, DC 20426, in accordance with sections 385.215 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-14231 Filed 6-6-00; 8:45 am]

BILLING CODE 6717-01-M